FEDERAL COMMUNICATIONS COMMISSION

47 CFR Part 25

[IB Docket No. 06-154; FCC 12-116]

2006 Biennial Regulatory Review

AGENCY: Federal Communications Commission.

ACTION: Correcting amendments.

SUMMARY: The Federal Communications Commission published a document in the Federal Register on February 6, 2013 (78 FR 8417), revising Commission rules. This document corrects the final regulation by revising certain provisions.

DATES: Effective on May 17, 2013.

FOR FURTHER INFORMATION CONTACT: William Bell, Satellite Division, International Bureau, at 202-418-0741 or via email at William.Bell@fcc.gov.

SUPPLEMENTARY INFORMATION: The Federal Communications Commission published a rule on February 6, 2013 which became effective on March 8, 2013. That document listed incorrect cross-references in the introductory text in § 25.221(b) and, due to paragraph mis-numbering, inadvertently replaced § 25.221(a)(7), which should not have been changed, with a slightly revised version of the text in § 25.221(a)(8).

List of Subjects in 47 CFR Part 25

Satellites and telecommunications.

Federal Communications Commission.
Marlene H. Dortch,
Secretary.

Accordingly, 47 CFR part 25 is corrected by making the following corrective amendments:

PART 25—SATELLITE COMMUNICATIONS

1. The authority citation for part 25 continues to read as follows:

Authority: Interprets or applies Sections 4, 301, 302, 303, 307, 309, 332, and 705 of the Communications Act, as amended, 47 U.S.C. Sections 154, 301, 302, 303, 307, 309, 332, and 705, unless otherwise noted.

2. In § 25.221, revise paragraphs (a)(7) and (8), and paragraph (b) introductory text to read as follows:

§ 25.221 Blanket Licensing provisions for Earth Stations on Vessels (ESVs) receiving in the 3700-4200 MHz (space-to-Earth) frequency band and transmitting in the 5925-6425 MHz (Earth-to-space) frequency band, operating with Geostationary Satellite Orbit (GSO) Satellites in the Fixed-Satellite Service.

(a) * * *

(7) ESV operators shall control all ESVs by a hub earth station located in the United States, except that an ESV on U.S.-registered vessels may operate under control of a hub earth station location outside the United States provided the ESV operator maintains a point of contact within the United States that will have the capability and authority to cause an ESV on a U.S.-registered vessel to cease transmitting if necessary.

(8) ESV operators transmitting in the 5925-6425 MHz (Earth-to-space) frequency band to GSO satellites in the Fixed-Satellite Service (FSS) shall not seek to coordinate, in any geographic location, more than 36 megahertz of uplink bandwidth on each of no more than two GSO FSS satellites.

* * * * *

(b) Applications for ESV operation in the 5925-6425 MHz (Earth-to-space) band to GSO satellites in the Fixed-Satellite Service must include, in addition to the particulars of operation identified on Form 312 and associated Schedule B, the applicable technical demonstrations in paragraphs (b)(1), (b)(2) or (b)(3) of this section and the documentation identified in paragraphs (b)(4) through (b)(7) of this section.

* * * * *

[FR Doc. 2013-11442 Filed 5-16-13; 8:45 am]

BILLING CODE 6712-01-P